DEPARTMENT OF HEALTH AND HUMAN SERVICES

Centers for Medicare and Medicaid Services

[Document Identifier: CMS-10285]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320(a)(2)(iii). This is necessary to ensure compliance with an initiative of the Administration. If CMS were to comply with the normal clearance procedures, it would not be able to implement its expedited review program on a timely basis as required by the American Recovery and Reinvestment Act of 2009 (ARRA) section 3001(a)(5).

1. Type of Information Collection Request: New collection; Title of Information Collection: Request for Expedited Review of Denial of Premium Assistance Use: Section 3001 of the ARRA provides “Assistance Eligible Individuals” with the right to pay reduced COBRA premiums. An “assistance eligible individual” is a “qualified beneficiary” who: (1) is eligible for COBRA continuation coverage at any time during the period beginning September 1, 2008 and ending December 31, 2009: (2) elects COBRA coverage: and (3) has a qualifying event for COBRA coverage, that is the employee's involuntary termination during the period beginning September 1, 2008 and ending December 31, 2009.

If individuals request treatment as an assistance eligible individual and are denied such treatment because of their ineligibility for the reduced premium assistance, the Secretary of Health and Human Services must provide for expedited review of the denial upon application to the Secretary in the form and manner the Secretary provides. The Secretary is required to make a determination within 15 business days after receipt of an individual's application for review.

The Request for Expedited Review of Denial of Premium Assistance (the “Application”) is the form that will be used by individuals to file their expedited review appeals. Such individuals must complete all information requested on the Application in order to file their review requests with CMS. An Application may be denied if sufficient information is not provided. Form Number: CMS-10285 (OMB#: 0938-New); Frequency: Reporting—Once; Affected Public: Individuals or Households; Number of Respondents: 12,000 Total Annual Responses: 12,000; Total Annual Hours: 12,000. (For policy questions regarding this collection contact Jim Mayhew at 410-786-9244. For all other issues call 410-786-1326.)

CMS is requesting OMB review and approval of this collection by May 15, 2009, with a 180-day approval period. Written comments and recommendation will be considered from the public if received by the individuals designated below by the noted deadline below.

To obtain copies of the supporting statement and any related forms for the proposed paperwork collections referenced above, access CMS's Web Site address at http://www.cms.hhs.gov/PaperworkReductionActof1995 or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by May 14, 2009:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number (CMS-10285), Room C4-26-05, 7500 Security Boulevard, Baltimore, Maryland 21244-1850;

and

OMB Office of Information and Regulatory Affairs, Attention: CMS Desk Officer, New Executive Office Building, Room 10235, Washington, DC 20503, Fax Number: (202) 395-6974.

Dated: April 30, 2009.
Michelle Shortt,
Director, Regulations Development Group, Office of Strategic Operations and Regulatory Affairs.

[FR Doc. E9-10326 Filed 5-1-09; 8:45 am]

BILLING CODE 4120-01-P